DEPARTMENT OF ENERGY

Federal Energy Regulatory Commission

Combined Notice of Filings #1

Take notice that the Commission received the following electric corporate filings:

Docket Numbers: EC12-52-000.

Applicants: Agua Caliente Solar, LLC, MidAmerican AC Holding, LLC.

Description: Application of MidAmerican AC Holding, LLC, and Agua Caliente Solar, LLC for Authorization of Transaction under Section 203 of the Federal Power Act and Request for Expedited Consideration.

Filed Date: 12/16/11.

Accession Number: 20111216-5172.

Comments Due: 5 p.m. ET 1/6/12.

Take notice that the Commission received the following electric rate filings:

Docket Numbers: ER10-3079-001; ER12-126-001.

Applicants: Tyr Energy, LLC, Trademark Merchant Energy, LLC.

Description: Tyr Energy, LLC, et al. Request for Category 1 Seller Determination, et al.

Filed Date: 12/15/11.

Accession Number: 20111215-5287.

Comments Due: 5 p.m. ET 1/5/12.

Docket Numbers: ER11-2605-003.

Applicants: Tyr Energy LLC.

Description: Request for Category 1 Seller in all regions to be effective 12/16/2011.

Filed Date: 12/15/11.

Accession Number: 20111215-5225.

Comments Due: 5 p.m. ET 1/5/12.

Docket Numbers: ER12-126-002.

Applicants: Trademark Merchant Energy, LLC.

Description: Trademark Merchant Energy, LLC submits tariff filing per 35.17(b): Amendment to October 19, 2011 Tariff Filing to be effective 12/19/2011.

Filed Date: 12/16/11.

Accession Number: 20111216-5090.

Comments Due: 5 p.m. ET 1/6/12.

Docket Numbers: ER12-308-001.

Applicants: Manzana Wind LLC.

Description: Manzana Wind LLC submits tariff filing per 35.17(b): Amendment to Market-Based Rate Application to be effective 12/31/2011.

Filed Date: 12/16/11.

Accession Number: 20111216-5157.

Comments Due: 5 p.m. ET 1/6/12.

Docket Numbers: ER12-615-000.

Applicants: Southwestern Public Service Company.

Description: 2011-12-15_SPS-RBEC-GSEC-Const Agrmt_651 to be effective 4/4/2011.

Filed Date: 12/15/11.

Accession Number: 20111215-5158.

Comments Due: 5 p.m. ET 1/5/12.

Docket Numbers: ER12-616-000.

Applicants: PJM Interconnection, LLC.

Description: PJM submits Service Agreement Nos. 3144 and 3166 to be effective 11/18/2011.

Filed Date: 12/15/11.

Accession Number: 20111215-5197.

Comments Due: 5 p.m. ET 1/5/12.

Docket Numbers: ER12-617-000.

Applicants: Thermo Cogeneration Partnership, LP.

Description: Cancellation of Tariff to be effective 12/15/2011.

Filed Date: 12/15/11.

Accession Number: 20111215-5239.

Comments Due: 5 p.m. ET 1/5/12.

Docket Numbers: ER12-618-000.

Applicants: Southern California Edison Company.

Description: Notices of Cancellation of FSA & Switchyard Agmt with LADWP, NPC and SRP to be effective 12/17/2011.

Filed Date: 12/16/11.

Accession Number: 20111216-5005.

Comments Due: 5 p.m. ET 1/6/12.

Docket Numbers: ER12-619-000.

Applicants: Southern California Edison Company.

Description: Amend Eldorado System Operating Agreement with LADWP, NPC, and SRP to be effective 12/17/2011.

Filed Date: 12/16/11.

Accession Number: 20111216-5007.

Comments Due: 5 p.m. ET 1/6/12.

Docket Numbers: ER12-621-000.

Applicants: Westar Energy, Inc.

Description: Tennessee Valley Authority BA Opers Coordination Agreement (Caney River Wind) to be effective 1/1/2012.

Filed Date: 12/16/11.

Accession Number: 20111216-5064.

Comments Due: 5 p.m. ET 1/6/12.

Docket Numbers: ER12-622-000.

Applicants: PJM Interconnection, L.L.C., Virginia Electric and Power Company.

Description: PJM Interconnection, L.L.C. submits tariff filing per 35.13(a)(2)(iii: Dominion submits PJM SA 3151-MOA between Dominion and Town of Windsor, NC to be effective 1/1/2012.

Filed Date: 12/16/11.

Accession Number: 20111216-5069.

Comments Due: 5 p.m. ET 1/6/12.

Docket Numbers: ER12-623-000.

Applicants: Occidental Power Marketing, L.P.

Description: Occidental Power Marketing, L.P. submits tariff filing per 35: Compliance Filing of Revised Market-Based Rate Tariff to be effective 1/1/2012.

Filed Date: 12/16/11.

Accession Number: 20111216-5127.

Comments Due: 5 p.m. ET 1/6/12.

Docket Numbers: ER12-624-000.

Applicants: Occidental Power Services, Inc.

Description: Occidental Power Services, Inc. submits tariff filing per 35: Compliance Filing of Revised Market-Based Rate Tariff to be effective 1/1/2012.

Filed Date: 12/16/11.

Accession Number: 20111216-5128.

Comments Due: 5 p.m. ET 1/6/12.

Docket Numbers: ER12-625-000.

Applicants: PacifiCorp.

Description: PacifiCorp submits tariff filing per 35.13(a)(2)(iii: Logan City Amended and Restated Construction Agreement to be effective 2/15/2012.

Filed Date: 12/16/11.

Accession Number: 20111216-5129.

Comments Due: 5 p.m. ET 1/6/12.

Docket Numbers: ER12-626-000.

Applicants: PacifiCorp.

Description: PacifiCorp submits tariff filing per 35.15: Cancellation of Roseburg Forest Products Facilities Maintenance Agreement to be effective 2/15/2012.

Filed Date: 12/16/11.

Accession Number: 20111216-5130.

Comments Due: 5 p.m. ET 1/6/12.

Docket Numbers: ER12-627-000.

Applicants: California Independent System Operator Corporation.

Description: California Independent System Operator Corporation submits tariff filing per 35.13(a)(2)(iii: 2011-12-16 CAISO and Anaheim MSSA Amendment to be effective 1/1/2012.

Filed Date: 12/16/11.

Accession Number: 20111216-5131.

Comments Due: 5 p.m. ET 1/6/12.

Docket Numbers: ER12-628-000.

Applicants: MRL Energy, LLC.

Description: MRL Energy, LLC submits tariff filing per 35.12: MBR Tariff Filing to be effective 1/1/2012.

Filed Date: 12/16/11.

Accession Number: 20111216-5133.

Comments Due: 5 p.m. ET 1/6/12.

Docket Numbers: ER12-629-000.

Applicants: Westar Energy, Inc.

Description: Westar Energy, Inc. submits tariff filing per 35.13(a)(2)(iii: Oklahoma Municipal Power Authority Letter Agreement to be effective 8/31/2010.

Filed Date: 12/16/11.

Accession Number: 20111216-5159.

Comments Due: 5 p.m. ET 1/6/12.

Take notice that the Commission received the following electric securities filings:

Docket Numbers: ES12-13-000.

Applicants: AEP Texas North Company.

Description: Application under Section 204 of the Federal Power Act for Authorization to Issue Securities of AEP Texas North Company.

Filed Date: 12/16/11.

Accession Number: 20111216-5146.

Comments Due: 5 p.m. ET 1/6/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 16, 2011.
Nathaniel J. Davis, Sr.,
Deputy Secretary.

[FR Doc. 2011-32984 Filed 12-23-11; 8:45 am]

BILLING CODE 6717-01-P